DEPARTMENT OF TRANSPORTATION

Federal Aviation Administration

14 CFR Part 39

[Docket No. FAA-2015-4815; Directorate Identifier 2015-NM-112-AD]

RIN 2120-AA64

Airworthiness Directives; Airbus Airplanes

AGENCY: Federal Aviation Administration (FAA), DOT.

ACTION: Notice of proposed rulemaking (NPRM).

SUMMARY: We propose to supersede Airworthiness Directive (AD) 2015-03-06, for all Airbus Model A330-200, A330-200 Freighter, A330-300, A340-200, A340-300, A340-500, and A340-600 series airplanes. AD 2015-03-06 currently requires repetitive inspections of the left-hand and right-hand wing main landing gear (MLG) rib 6 aft bearing lugs (forward and aft) to detect any cracks on the two lugs, and replacement if necessary. Since we issued AD 2015-03-06, we have received reports of additional cracking of the MLG rib 6 aft bearing lugs. This proposed AD would reduce certain compliance times. We are proposing this AD to detect and correct cracking of the MLG rib 6 aft bearing lugs, which could result in collapse of the MLG upon landing.

DATES: We must receive comments on this proposed AD by January 4, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-4815; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2015-4815; Directorate Identifier 2015-NM-112-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On February 2, 2015, we issued AD 2015-03-06, Amendment 39-18102 (80 FR 8511, February 18, 2015). AD 2015-03-06 requires actions intended to address an unsafe condition on all Airbus Model A330-200, A330-200 Freighter, A330-300, A340-200, A340-300, A340-500, and A340-600 series airplanes.

Since we issued AD 2015-03-06, Amendment 39-18102 (80 FR 8511, February 18, 2015), we have determined that it is necessary to introduce a more restrictive initial inspection threshold and a grace period for airplanes that have already exceeded the new threshold.

The European Aviation Safety Agency (EASA), which is the Technical Agent for the Member States of the European Union, has issued EASA Airworthiness Directive 2015-0120, dated June 26, 2015 (referred to after this as the Mandatory Continuing Airworthiness Information, or “the MCAI”), to correct an unsafe condition for all Airbus Model A330-200, A330-200 Freighter, A330-300, A340-200, A340-300, A340-500, and A340-600 series airplanes. The MCAI states:

During Main Landing Gear (MLG) lubrication, a crack was visually found in the MLG rib 6 aft bearing forward lug on one A330 in-service aeroplane. The crack had extended through the entire thickness of the forward lug at approximately the 4 o'clock position (when looking forward). It has been determined that a similar type of crack can develop on other aeroplane types that are listed in the Applicability paragraph.

This condition, if not detected and corrected, could affect the structural integrity of the MLG attachment.

To address this situation, Airbus issued inspection Service Bulletin (SB) A330-57-3096, SB A340-57-4104 and SB A340-57-5009 to provide instructions for repetitive inspections of the gear rib lugs.

Prompted by these findings, EASA issued Emergency AD 2006-0364-E to require repetitive detailed visual inspections of the Left Hand (LH) and Right Hand (RH) wing MLG rib 6 aft bearing lugs.

Later, EASA issued AD 2007-0247-E, which superseded [EASA] AD 2006-0364-E, to:

—expand the Applicability to all A330 and A340 aeroplanes, because the interference fit bushes cannot be considered as a terminating action, owing to unknown root cause; and

—add a second parameter quoted in flight hours (FH) to the inspection interval in order to reflect the aeroplane utilisation in service.

EASA AD 2007-0247-E was revised to correct a typographical error.

Since the first crack finding and issuance of the inspection SBs and related ADs, six further cracks were reported.

Consequently, EASA issued AD 2013-0271 [which corresponds to FAA AD 2015-03-06, Amendment 39-18102 (80 FR 8511, February 18, 2015)], which retained the requirements of [EASA] AD 2007-0247R1-E, which was superseded, and expanded the Applicability of the [EASA] AD to the newly certified models A330-223F and A330-243F. That AD also reduced the inspection threshold(s) to reflect the updated risk assessment and in-service experience.

Since this [EASA] AD was issued, a new occurrence of crack finding was reported. Further analysis resulted in the need to reduce the threshold of the initial inspection.

Prompted by this finding, Airbus issued SB A330-57-3096 Revision 06 to introduce a more restrictive initial inspection threshold and a grace period for aeroplanes which have already passed the new threshold.

For the reasons described above, this [EASA] AD partially retains the requirements of EASA AD 2013-0271, which is superseded, and introduces reduced initial inspection thresholds.

You may examine the MCAI in the AD docket on the Internet at http://www.regulations.gov by searching for and locating Docket No. FAA-2015-4815.

Related Service Information Under 1 CFR Part 51

Airbus has issued Service Bulletin A330-57-3096, Revision 06, dated May 29, 2015. The service information describes procedures for detailed inspections to detect any cracking on the forward and aft lugs of the Left Hand (LH) and Right Hand (RH) wing MLG Rib 6. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Explanation of “RC” Procedures and Tests in Service Information

The FAA worked in conjunction with industry, under the Airworthiness Directive Implementation Aviation Rulemaking Committee (ARC), to enhance the AD system. One enhancement was a new process for annotating which procedures and tests in the service information are required for compliance with an AD. Differentiating these procedures and tests from other tasks in the service information is expected to improve an owner's/operator's understanding of crucial AD requirements and help provide consistent judgment in AD compliance. The procedures and tests identified as Required for Compliance (RC) in any service information have a direct effect on detecting, preventing, resolving, or eliminating an identified unsafe condition.

As specified in a Note under the Accomplishment Instructions of the specified service information, procedures and tests that are identified as RC in any service information must be done to comply with the proposed AD. However, procedures and tests that are not identified as RC are recommended. Those procedures and tests that are not identified as RC may be deviated from using accepted methods in accordance with the operator's maintenance or inspection program without obtaining approval of an alternative method of compliance (AMOC), provided the procedures and tests identified as RC can be done and the airplane can be put back in an airworthy condition. Any substitutions or changes to procedures or tests identified as RC will require approval of an AMOC.

Costs of Compliance

We estimate that this proposed AD affects 101 airplanes of U.S. registry.

The actions required by AD 2015-03-06, Amendment 39-18102 (80 FR 8511, February 18, 2015), and retained in this proposed AD take about 2 work-hours per product, at an average labor rate of $85 per work-hour. Based on these figures, the estimated cost of the actions that are required by AD 2015-03-06 is $170 per product.

This proposed AD reduces the initial compliance time but adds no new actions.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-03-06, Amendment 39-18102 (80 FR 8511, February 18, 2015), and adding the following new AD:

Airbus: Docket No. FAA-2015-4815; Directorate Identifier 2015-NM-112-AD.

(a) Comments Due Date

We must receive comments by January 4, 2016.

(b) Affected ADs

This AD replaces AD 2015-03-06, Amendment 39-18102 (80 FR 8511, February 18, 2015).

(c) Applicability

This AD applies to Airbus Model A330-201, -202, -203, -223, -223F, -243, -243F -301, -302, -303, -321, -322, -323, -341, -342, and -343 airplanes; and Model A340-211, -212, -213 -311, -312, -313, -541, and -642 airplanes; certificated in any category; all manufacturer serial numbers.

(d) Subject

Air Transport Association (ATA) of America Code 57, Wings.

(e) Reason

This AD was prompted by reports of cracking of the main landing gear (MLG) rib 6 aft bearing forward lug. We are issuing this AD to detect and correct cracking of the MLG rib 6 aft bearing lugs, which could result in collapse of the MLG upon landing.

(f) Compliance

Comply with this AD within the compliance times specified, unless already done.

(g) Inspections

At the later of the times specified in paragraphs (g)(1) and (g)(2) of this AD: Do a detailed inspection for cracking of the left-hand and right-hand wing MLG rib 6 aft bearing lugs (forward and aft), in accordance with the Accomplishment Instructions of Airbus Service Bulletin A330-57-3096, Revision 06, dated May 29, 2015 (for Model A330-201, -202, -203, -223, -223F, -243, -243F, -301, -302, -303, -321, -322, -323, -341, -342, and -343 airplanes); A340-57-4104, Revision 04, dated October 17, 2013 (for Model A340-211, -212, -213, -311, -312, -313 airplanes); or A340-57-5009, Revision 03, dated October 17, 2013 (for Model A340-541 and -642 airplanes); as applicable.

(1) Within 24 months or 2,000 flight cycles, whichever occurs first since airplane first flight or since the last MLG support rib replacement, as applicable.

(2) Within 30 days after the effective date of this AD.

(h) Repetitive Inspections

Repeat the inspection required by paragraph (g) of this AD thereafter at the time specified in paragraphs (h)(1) through (h)(7) of this AD, as applicable.

(1) For Model A330-201, -202, -203, -223, and -243 airplanes: Repeat the inspections at intervals not to exceed 300 flight cycles or 1,500 flight hours, whichever occurs first.

(2) For Model A330-223F and -243F airplanes: Repeat the inspections at intervals not to exceed 300 flight cycles or 900 flight hours, whichever occurs first.

(3) For Model A330-301, -302, -303, -321, -322, -323, -341, -342, and -343 airplanes: Repeat the inspections at intervals not to exceed 300 flight cycles or 900 flight hours, whichever occurs first.

(4) For Model A340-211, -212, and -213 airplanes: Repeat the inspections at intervals not to exceed 200 flight cycles or 800 flight hours, whichever occurs first.

(5) For Model A340-311 and -312 airplanes; and Model A340-313 airplanes (except weight variant (WV) 27): Repeat the inspections at intervals not to exceed 200 flight cycles or 800 flight hours, whichever occurs first.

(6) For Model A340-313 (only WV27) airplanes: Repeat the inspections at intervals not to exceed 200 flight cycles or 400 flight hours, whichever occurs first.

(7) For Model A340-541 and -642 airplanes: Repeat the inspections at intervals not to exceed 100 flight cycles or 500 flight hours, whichever occurs first.

(i) Corrective Action

If any crack is found during any inspection required by paragraphs (g) or (h) of this AD: Before further flight, replace the cracked MLG support rib using a method approved by the Manager, International Branch, ANM-116, Transport Airplane Directorate, FAA; or the European Aviation Safety Agency (EASA); or Airbus's EASA Design Organization Approval (DOA). Replacement of an MLG support rib does not terminate the repetitive inspections required by paragraph (h) of this AD.

(j) Credit for Previous Actions

This paragraph provides credit for actions required by paragraphs (g) and (h) of this AD, if those actions were performed before the effective date of this AD using the applicable service information identified in paragraphs (j)(1) through (j)(15) of this AD.

(1) Airbus Service Bulletin A330-57A3096, dated December 5, 2006, which was incorporated by reference in AD 2007-03-04, Amendment 39-14915 (74 FR 4416, January 31, 2007).

(2) Airbus Service Bulletin A330-57A3096, Revision 01, dated April 18, 2007, which is not incorporated by reference by this AD.

(3) Airbus Service Bulletin A330-57-3096, Revision 02, dated August 13, 2007, which was incorporated by reference in AD 2007-22-10, Amendment 39-15246 (72 FR 61796, November 1, 2007; corrected November 16, 2007 (72 FR 64532)).

(4) Airbus Service Bulletin A330-57-3096, Revision 03, dated October 24, 2012, which is not incorporated by reference by this AD.

(5) Airbus Service Bulletin A330-57-3096, Revision 04, dated February 6, 2013, which is not incorporated by reference in this AD.

(6) Airbus Service Bulletin A330-57-3096, Revision 05, dated October 17, 2013, which was incorporated by reference in AD 2015-03-06, Amendment 39-18102 (80 FR 8511, February 18, 2015).

(7) Airbus Service Bulletin A340-57A4104, dated December 5, 2006, which was incorporated by reference in AD 2007-03-04, Amendment 39-14915 (72 FR 4416, January 31, 2007).

(8) Airbus Service Bulletin A340-57-4104, Revision 01, dated August 13, 2007, which is not incorporated by reference in this AD.

(9) Airbus Service Bulletin A340-57-4104, Revision 02, dated September 5, 2007, which was incorporated by reference in AD 2007-22-10, Amendment 39-15246 (72 FR 61796, November 1, 2007; corrected November 16, 2007 (72 FR 64532)).

(10) Airbus Service Bulletin A340-57-4104, Revision 03, dated October 24, 2012, which is not incorporated by reference in this AD.

(11) Airbus Service Bulletin A340-57A5009, dated December 5, 2006, which was incorporated by reference in AD 2007-03-04, Amendment 39-14915 (72 FR 4416, January 31, 2007).

(12) Airbus Service Bulletin A340-57-5009, Revision 01, dated August 13, 2007, which was incorporated by reference in AD 2007-22-10, Amendment 39-15246 (72 FR 61796, November 1, 2007; corrected November 16, 2007 (72 FR 64532)).

(13) Airbus Service Bulletin A340-57-5009, Revision 02, dated October 24, 2012, which is not incorporated by reference in this AD.

(14) Airbus Alert Operators Transmission A57L005-14, dated July 15, 2014, which is not incorporated by reference in this AD.

(15) Airbus Alert Operators Transmission A57L005-14, Revision 01, dated August 15, 2014, which is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA Airworthiness Directive 2015-0120, dated June 26, 2015, for related information. This MCAI may be found in the AD docket on the Internet at http://www.regulations.gov by searching for and locating Docket No. FAA-2015-4815.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on November 11, 2015.
Michael Kaszycki,
Acting Manager, Transport Airplane Directorate, Aircraft Certification Service.

[FR Doc. 2015-29442 Filed 11-18-15; 8:45 am]

BILLING CODE 4910-13-P